DEPARTMENT OF THE INTERIOR

Fish and Wildlife Service

[FWS-R8-ES-2020-N107; FXES11130000-190-FF08E00000]

Endangered and Threatened Wildlife and Plants; Draft Recovery Plan for Mount Charleston Blue Butterfly

AGENCY: Fish and Wildlife Service, Interior.

ACTION: Notice of document availability; request for public comment.

SUMMARY: We, the U.S. Fish and Wildlife Service, announce the availability of the draft recovery plan for the Mount Charleston Blue Butterfly (Icaricia [Plebejus] shasta charlestonensis), an endangered butterfly species, for public review and comment. We request review and comment on this draft recovery plan from local, State, and Federal agencies; nongovernmental organizations; and the public.

DATES: We must receive any comments on the draft recovery plan on or before July 9, 2021.

ADDRESSES: Document availability: You may obtain a copy of the recovery plan from our website at http://www.fws.gov/endangered/species/recovery-plans.html. Alternatively, you may contact the Southern Nevada Fish and Wildlife Office, U.S. Fish and Wildlife Service, 4701 North Torrey Pines Drive, Las Vegas, Nevada 89130 (telephone 702-515-5230).

Comment submission: If you wish to comment on the draft recovery plan, you may submit your comments in writing by any one of the following methods:

• U.S. mail: Field Supervisor, at the above address;

• Email: Glen_Knowles@fws.gov.

For additional information about submitting comments, see the Request for Public Comments and Public Availability of Comments sections below.

FOR FURTHER INFORMATION CONTACT: Glen Knowles, Field Supervisor, at Glen_Knowles@fws.gov or telephone 702-515-5230.

SUPPLEMENTARY INFORMATION:

Background

Recovery of endangered or threatened animals and plants to the point where they are again secure, self-sustaining members of their ecosystems is a primary goal of our endangered species program and the Endangered Species Act of 1973, as amended (Act; 16 U.S.C. 1531 et seq.). Recovery means improvement of the status of listed species to the point at which listing is no longer necessary under the criteria specified in section 4(a)(1) of the Act. The Act requires the development of recovery plans for listed species, unless such a plan would not promote the conservation of a particular species.

Pursuant to section 4(f) of the Act, a recovery plan must, to the maximum extent practicable, include (1) a description of site-specific management actions as may be necessary to achieve the plan's goals for the conservation and survival of the species; (2) objective, measurable criteria which, when met, would support a determination under section 4(a)(1) that the species should be removed from the List of Endangered and Threatened Species; and (3) estimates of the time and costs required to carry out those measures needed to achieve the plan's goal and to achieve intermediate steps toward that goal.

The U.S. Fish had Wildlife Service (USFWS) has revised its approach to recovery planning; the revised process is called Recovery Planning and Implementation (RPI). The RPI process is intended to reduce the time needed to develop and implement recovery plans, increase recovery plan relevancy over a longer timeframe, and add flexibility to recovery plans so they can be adjusted to new information or circumstances. Under RPI, a recovery plan will include statutorily required elements (objective, measurable criteria; site-specific management actions; and estimates of time and costs), along with a concise introduction and our strategy for how we plan to achieve species recovery. The RPI recovery plan is supported by a separate Species Status Assessment, or in cases such as this one, a species biological report that provides the background information and threat assessment, which are key to recovery plan development. The essential component to flexible implementation under RPI is producing a separate working document called the Recovery Implementation Strategy (implementation strategy). The implementation strategy steps down from the more general description of actions described in the recovery plan to detail the specific, near-term activities needed to implement the recovery plan. The implementation strategy will be adaptable by being able to incorporate new information without having to concurrently revise the recovery plan, unless changes to statutory elements are required.

Mount Charleston blue butterfly was federally listed as endangered under the Act in 2013 (USFWS 2013). USFWS designated critical habitat for the species in 2015 (USFWS 2015). Mount Charleston blue butterfly is endemic to the Spring Mountains in southern Nevada. Evidence of decreasing range and population size and the presence of ongoing threats to Mount Charleston blue butterfly resulted in its listing as endangered. The majority of the historic range and all currently occupied locations of the Mount Charleston blue butterfly are on lands managed by the Spring Mountains National Recreation Area, Humboldt-Toiyabe National Forest, United States Department of Agriculture Forest Service (Forest Service). Therefore, close coordination and cooperation will need to occur between the USFWS and Forest Service for recovery to be successful. Here we describe a draft recovery plan for the conservation and survival of the Mount Charleston blue butterfly.

Threats facing the Mount Charleston blue butterfly increase the risk of extinction of the subspecies, given its few occurrences in a small area. The largest threats to Mount Charleston blue butterfly are the loss and degradation of habitat due to changes in natural fire regimes and succession, the implementation of recreational development projects and fuels reduction projects, and the increases in nonnative plants. These threats are likely to be exacerbated by the impact of climate change, which is anticipated to increase drought and extreme precipitation events.

Recovery Strategy

The purpose of a recovery plan is to provide a framework for the recovery of a species so that protection under the Act is no longer necessary. A recovery plan includes scientific information about the species and provides criteria that enable us to gauge whether downlisting or delisting the species may be warranted. Furthermore, recovery plans help guide our recovery efforts by describing actions we consider necessary for each species' conservation and by estimating time and costs for implementing needed recovery measures.

The primary threats to be addressed through this recovery strategy are the loss and degradation of habitat due to changes in natural fire regimes and succession, the implementation of recreational development projects and fuels reduction projects, feral horses, and the increases in nonnative plants. Habitat for Mount Charleston blue butterfly may be increased through properly sited and implemented management actions to favor optimal habitat quantity, quality, and patch arrangement. Where appropriate, habitat that once existed may be restored; habitat that currently exists should be protected and may be enhanced or augmented; and, where conditions are suitable, new habitat may be created. After an evaluation is completed, population growth and connectivity may be assisted with translocation, if necessary, to ensure conservation and expedite recovery of the Mount Charleston blue butterfly. Evaluations, monitoring, and research will be implemented to inform decisions towards the recovery goal.

To downlist to threatened status and ultimately delist the Mount Charleston blue butterfly will require active and ongoing protection of existing populations and occupied habitat, and discovered or established new habitat. Additional habitat and locations that can be categorized as known occupied are critical to ensure Mount Charleston blue butterfly life history processes, population growth, and connectivity will occur, thereby ensuring the genetic diversity of the species, sufficiently large populations to withstand stochastic events, and a sufficiently large number of populations to provide a safety margin to withstand catastrophic events.

Request for Public Comments

We request written comments on the draft recovery plan described in this notice. All comments received by the date specified in DATES will be considered in development of a final recovery plan for Mount Charleston blue butterfly. You may submit written comments and information by mail or email to the Southern Nevada Fish and Wildlife Office at the above address (see ADDRESSES).

Public Availability of Comments

Before including your address, phone number, email address, or other personal identifying information in your comment, you should be aware that your entire comment—including your personal identifying information—may be made publicly available at any time. While you can ask us in your comment to withhold your personal identifying information from public review, we cannot guarantee that we will be able to do so.

Authority

We developed this recovery plan and publish this notice under the authority of section 4(f) of the Act, 16 U.S.C. 1533(f).

Paul Souza,
Regional Director, Pacific Southwest Region.

[FR Doc. 2021-09763 Filed 5-7-21; 8:45 am]

BILLING CODE 4333-15-P